DEPARTMENT OF COMMERCE

National Oceanic and Atmospheric Administration

50 CFR Part 622

[I.D. 021306C]

RIN 0648-AS70

Fisheries of the Caribbean, Gulf of Mexico, and South Atlantic; Coastal Migratory Pelagic Resources of the Gulf of Mexico and South Atlantic; Reef Fish Fishery of the Gulf of Mexico; Limited Access Program for Gulf Charter Vessels and Headboats

AGENCY: National Marine Fisheries Service (NMFS), National Oceanic and Atmospheric Administration (NOAA), Commerce.

ACTION: Announcement of availability of fishery management plan amendments; request for comments.

SUMMARY: NMFS announces the availability of Amendment 17 to the Fishery Management Plan for the Coastal Migratory Pelagic (CMP) Resources of the Gulf of Mexico and South Atlantic (Amendment 17) and Amendment 25 to the Fishery Management Plan for the Reef Fish Resource of the Gulf of Mexico (Amendment 25), prepared by the Gulf of Mexico Fishery Management Council (Council). Amendments 17 and 25 would establish a limited access system for the Gulf of Mexico charter vessel/headboat (for-hire) permits for the reef fish and CMP fisheries in the exclusive economic zone of the Gulf of Mexico and would continue to cap participation at current levels. The intended effect of Amendments 17 and 25 is to support the Council's efforts to achieve optimum yield in the fishery and provide social and economic benefits associated with maintaining stability in these for-hire fisheries.

DATES: Written comments must be received no later than 5 p.m., eastern time, on April 24, 2006.

ADDRESSES: You may submit comments by any of the following methods:

• E-mail: 0648-AS70.NOA@noaa.gov. Include in the subject line the following document identifier: 0648-AS70-NOA.

• Federal e-Rulemaking Portal: http://www.regulations.gov. Follow the instructions for submitting comments.

• Mail: Jason Rueter, Southeast Regional Office, NMFS, 263 13th Avenue South, St. Petersburg, FL 33701.

• Fax: 727-824-5308, Attention: Jason Rueter.

Copies of Amendments 25 and 17, which include a Supplemental Environmental Impact Statement, a Regulatory Impact Review, and an Initial Regulatory Flexibility Analysis, are available from the Gulf of Mexico Fishery Management Council, 2203 North Lois Avenue, Suite 1100, Tampa, FL 33607; e-mail: gulfcouncil@gulfcouncil.org.

FOR FURTHER INFORMATION CONTACT: Jason Rueter, 727-824-5305; fax 727-824-5308; e-mail: jason.rueter@noaa.gov.

SUPPLEMENTARY INFORMATION: Charter vessel permits were initially required in the CMP fishery in 1987 and the reef fish fishery in 1997. A joint amendment establishing the charter vessel/headboat permit moratorium for the CMP fishery (Amendment 14) and the reef fish fishery (Amendment 20) was approved by NMFS on May 6, 2003, and implemented on June 16, 2003 (68 FR 26280). The intended effect of these amendments was to cap the number of for-hire vessels operating in these two fisheries at the current level (as of March 29, 2001) while the Council evaluated whether limited access programs were needed to constrain effort. The moratorium is set to expire on June 16, 2006. These amendments, if implemented would establish a limited access program.

A proposed rule that would implement the measures outlined in Amendments 17 and 25 has been received from the Council. In accordance with the Magnuson-Stevens Fishery Conservation and Management Act (Magnuson-Stevens Act), NMFS is evaluating the proposed rule to determine whether it is consistent with the FMPs, the Magnuson-Stevens Act, and other applicable law. If that determination is affirmative, NMFS will publish the proposed rule in the Federal Register for public review and comment.

Comments received by April 24, 2006, whether specifically directed to the Amendments 17 and 25 or the proposed rule, will be considered by NMFS in its decision to approve, disapprove, or partially approve the amendments. Comments received after that date will not be considered by NMFS in this decision. All comments received by NMFS on the amendments or the proposed rule during their respective comment periods will be addressed in the final rule.

Authority: 16 U.S.C. 1801 et seq.

Dated: February 14, 2006.
James P. Burgess,
Acting Director, Office of Sustainable Fisheries, National Marine Fisheries Service.

[FR Doc. E6-2403 Filed 2-17-06; 8:45 am]

BILLING CODE 3510-22-S